DEPARTMENT OF COMMERCE

Foreign-Trade Zones Board

[Docket 1-2011]

Foreign-Trade Zone 153—San Diego, CA; Application for Reorganization Under Alternative Site Framework

An application has been submitted to the Foreign-Trade Zones (FTZ) Board (the Board) by the City of San Diego, grantee of FTZ 153, requesting authority to reorganize and expand the zone under the alternative site framework (ASF) adopted by the Board (74 FR 1170, 1/12/09 (correction 74 FR 3987, 1/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on January 3, 2011.

FTZ 153 was approved by the Board on October 14, 1988 (Board Order 394, 53 FR 41616, 10/24/88) and expanded on December 16, 1991 (Board Order 548, 56 FR 2160, 01/22/91 and on August 23, 2002 (Board Order 1245, 67 FR 56983, 09/06/02).

The current zone project includes the following sites: Site 1 (316 acres)—Brown Field, Otay Mesa Road and Heritage Road, San Diego; Site 2 (73 acres)—San Diego Business Park, Airway Road and State Road 125, San Diego; Site 3 (60 acres)—Gateway Park, Harvest Road and Customs House Plaza Road, San Diego; Site 4 (71 acres)—Britannia Commerce Center, Siempre Viva Road and Britannia Boulevard; Site 5 (312 acres)—De La Fuente Business Park, Airway Road and Media Road, San Diego; Site 6 (160 acres)—Brown Field Business Park, Otay Mesa Road and Britannia Boulevard; Site 7 (389 acres)—Otay Mesa International Center, Harvest Road and Airway Road, San Diego; Site 8 (86 acres)—Ocean View Hills Corporate Center, Otay Mesa Road and Innovative Drive, San Diego; Site 9 (119 acres)—Siempre Viva Business Park, La Media Road and Siempre Viva Road, San Diego; Site 10 (65 acres)—Brown Field Technology Park, southeast of the intersection of Otay Mesa Road and Britannia Boulevard; and, Site 14 (0.51 acres)—Hoon Import & Export Inc., 2155 Britannia Boulevard, San Diego (expires 09/30/11).

The grantee's proposed service area under the ASF would be San Diego County and a portion of Riverside County, California, as described in the application. If approved, the grantee would be able to serve sites throughout the service area based on companies' needs for FTZ designation. The proposed service area is within and adjacent to the San Diego U.S. Customs and Border Protection port of entry.

The applicant is requesting authority to reorganize its existing zone project to include existing Sites 1 thru 10 as “magnet” sites and existing Site 14 as a “usage-driven site. The ASF allows for the possible exemption of one magnet site from the “sunset” time limits that generally apply to sites under the ASF, and the applicant proposes that Site 1 be so exempted. The applicant is also requesting approval of the following initial “usage-driven” sites: Proposed Site 11 (54.18 acres)—Abbott Cardiovascular Systems Inc., 26531 Ynez Road, Temecula (Riverside County); Proposed Site 12 (8.3 acres)—Abbot Cardiovascular Systems Inc., 42301 Zevo Drive, Temecula (Riverside County); and, Proposed Site 13 (4.37 acres)—30590 Cochise Circle, Temecula (Riverside County). Additionally, the applicant is requesting to reduce the acreage of existing Site 6 and existing Site 10. Because the ASF only pertains to establishing or reorganizing a general-purpose zone, the application would have no impact on FTZ 153's authorized subzones.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is March 8, 2011. Rebuttal comments in response to material submitted during the foregoing period may be submitted during the subsequent 15-day period to March 23, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Christopher Kemp at Christopher.Kemp@trade.gov or (202) 482-0862.

Dated: January 3, 2011.
Andrew McGilvray,
Executive Secretary.

[FR Doc. 2011-138 Filed 1-6-11; 8:45 am]

BILLING CODE P